ENVIRONMENTAL PROTECTION AGENCY

[FRL-8578-3]

EPA Office of Children's Health Protection and Environmental Education Staff Office; Notice of Public Meetings for the National Environmental Education Advisory Council

AGENCY: Environmental Protection Agency.

ACTION: Notice of meetings.

SUMMARY: The U.S. Environmental Protection Agency (EPA or Agency) Office of Children's Health Protection and Environmental Education Office hereby gives notice that the National Environmental Education Advisory Council will hold public meetings by conference call on the 2nd Wednesday of each month, beginning with July 9, 2008 from 3 p.m. to 4 p.m. All times noted are Eastern time. The purpose of these meetings is to provide the Council with the opportunity to advise the Environmental Education Division on its implementation of the National Environmental Protection Act of 1990. Requests for the draft agenda will be accepted up to 1 business day before the meeting.

DATES: This notice is applicable for the following dates:

• July 9, 2008

• August 13, 2008

• September 10, 2008

• October 8, 2008

• November 12, 2008

• December 10, 2008

SUPPLEMENTARY INFORMATION: Participation in the conference calls will be by teleconference only—meeting rooms will not be used. Members of the public may obtain the call-in number and access code for the call from Ginger Potter, the Designated Federal Officer, whose contact information is listed under the FOR FURTHER INFORMATION CONTACT section of this notice. Any member of the public interested in receiving a draft meeting agenda may contact Ginger Potter via any of the contact methods listed in the FOR FURTHER INFORMATION CONTACT section below.

FOR FURTHER INFORMATION CONTACT: For information regarding this Notice, please contact Ms. Ginger Potter, Designated Federal Officer (DFO), EPA National Environmental Education Advisory Council, at potter.ginger@epa.gov or (202) 564-0453. General information concerning NEEAC can be found on the EPA Web site at: http://www.epa.gov/enviroed. For information on access or services for individuals with disabilities, please contact Ginger Potter as directed above. To request accommodation of a disability, please contact Ginger Potter, preferably at least 10 days prior to the meeting, to give EPA as much time as possible to process your request.

Dated: June 5, 2008.
Ginger Potter,
Designated Federal Officer.

[FR Doc. E8-13069 Filed 6-10-08; 8:45 am]

BILLING CODE 6560-50-P